DEPARTMENT OF COMMERCE

International Trade Administration

[A-570-504]

Petroleum Wax Candles From the People's Republic of China: Extension of Time Limit for Final Results of New Shipper Review of Shandong Huihe Trade Co. Inc.

AGENCY: Import Administration, International Trade Administration, U.S. Department of Commerce.

SUMMARY: The Department of Commerce (the Department) is extending the time limit for the final results of the new shipper review of the antidumping duty order on petroleum wax candles from the People's Republic of China for Shandong Huihe Trade Co. Inc. (Shandong Huihe) by 139 days until no later than December 20, 2004. The period of review is August 1, 2002 through July 31, 2003. This extension is made pursuant to section 751(a)(2)(B)(iv) of the Tariff Act of 1930, as amended (the Act).

DATES: October 7, 2004.

FOR FURTHER INFORMATION CONTACT: Scott Lindsay or Dana Mermelstein, Office of AD/CVD Operations VI, Import Administration, International Trade Administration, U.S. Department of Commerce, 14th Street and Constitution Avenue, NW., Washington DC 20230; telephone: (202) 482-0780 or (202) 482-1391, respectively.

SUPPLEMENTARY INFORMATION:

Statutory Time Limits

Section 751(a)(2)(B)(iv) of the Act requires the Department to issue the final results of a new shipper review within 90 days after the date on which the preliminary results were issued. However, if the Department determines that the issues are extraordinarily complicated, section 751(a)(2)(B)(iv) of the Act allows the Department to extend the deadline for the final results to up to 150 days after the date on which the preliminary results were issued.

Background

On August 12, 2003, the Department received a timely filed request from Shandong Huihe for a new shipper review under the order on petroleum wax candles from the People's Republic of China, in accordance with section 751(a)(2)(B) of the Act and section 351.214(c) of the Department's regulations. In its request, Shandong Huihe certified that it both produced and exported the petroleum wax candles that are subject to review. On September 30, 2003, the Department initiated this new shipper review for the period August 1, 2002 through July 31, 2003. See Petroleum Wax Candles From the People's Republic of China: Initiation of Antidumping Duty New Shipper Review, 68 FR 57876 (October 7, 2003).

On March 11, 2004, the Department extended the preliminary results of this new shipper review by 120 days until July 26, 2004. See Petroleum Wax Candles From the People's Republic of China: Extension of Time Limit of Preliminary Results of New Shipper Review, 69 FR 12641 (March 17, 2004). On August 3, 2004, the Department issued the preliminary results of this review. See Petroleum Wax Candles From the People's Republic of China: Notice of Preliminary Results of Antidumping Duty New Shipper Review of Shandong Huihe, Ltd., 69 FR 46912.

Extension of Time Limit for Final Results

Pursuant to section 751(a)(2)(B)(iv) of the Act, the Department may extend the deadline for completion of the final results of a new shipper review if it determines that the case is extraordinarily complicated. The Department has determined that this case is extraordinarily complicated because of the issues that must be addressed pertaining to the bona fides of Shandong Huihe's U.S. sale and operations and the relationship between Shandong Huihe and its importer. The Department is also planning to conduct a verification of Shandong Huihe. As a result, the final results of this new shipper review cannot be completed within the statutory time limit of 90 days. Therefore, in accordance with section 751(a)(2)(B)(iv) of the Act and section 351.214(i)(2) of the regulations, the Department is extending the time limit for the completion of final results to 139 days from the date on which the preliminary results were issued. The final results will now be due no later than December 20, 2004.

This notice is published pursuant to sections 751(a)(2)(B) and 777(i)(1) of the Act.

Dated: October 1, 2004.
Jeffrey A. May,
Deputy Assistant Secretary for Import Administration.

[FR Doc. E4-2531 Filed 10-6-04; 8:45 am]

BILLING CODE 3510-DS-P